NATIONAL AERONAUTICS AND SPACE ADMINISTRATION

[Notice (08-034)]

Government-Owned Inventions, Available for Licensing

AGENCY: National Aeronautics and Space Administration.

ACTION: Notice of availability of inventions for licensing.

SUMMARY: The inventions listed below, assigned to the National Aeronautics and Space Administration, have been filed in the United States Patent and Trademark Office, and are available for licensing.

DATES: April 29, 2008.

FOR FURTHER INFORMATION CONTACT: James J. McGroary, Patent Counsel,Marshall Space Flight Center, Mail Code LS01, Huntsville, AL 35812; telephone (256) 544-0013; fax (256) 544-0258.

NASA Case No. MFS-32324-1: Orbital Foamed Material Extruder;

NASA Case No. MFS-32471-1: Self-Contained, Controlled Liquid Metal Feed System;

NASA Case No. MFS-32588-1: Electrochemical And Mechanical Polishing And Shaping System And Method;

NASA Case No. MFS-32402-1: Position Sensing For Rotor In Hybrid Stepper Motor;

NASA Case No. MFS-32521-1: Ring-Laser Gyroscope System Using Dispersive Element(s);

NASA Case No. MFS-32311-1: Method And System For Identifying And Authenticating An Object;

NASA Case No. MFS-32497-1: Eliminating Crystals In Non-Oxide Optical Fiber Preforms And Optical Fibers.

Dated: April 23, 2008.
Keith T. Sefton,
Deputy General Counsel, Administration and Management.

[FR Doc. E8-9364 Filed 4-28-08; 8:45 am]

BILLING CODE 7510-13-P